DEPARTMENT OF ENERGY

National Nuclear Security Administration

Notice of Intent To Prepare a Site-Wide Environmental Impact Statement for Continued Operation of the Los Alamos National Laboratory

AGENCY: National Nuclear Security Administration, Department of Energy.

ACTION: Notice of intent.

SUMMARY: The National Nuclear Security Administration (NNSA), a semi-autonomous agency within the Department of Energy (DOE), announces its intent to prepare a new Site-Wide Environmental Impact Statement (SWEIS) for the Los Alamos National Laboratory (LANL or Laboratory) in Los Alamos, New Mexico (DOE/EIS-0552) in compliance with the National Environmental Policy Act of 1969 (NEPA). The SWEIS will analyze the potential environmental impacts of the reasonable alternatives for continuing operations of the Laboratory for approximately the next 15 years. The continued operation of the Laboratory is critical to NNSA's Stockpile Stewardship Program to prevent the spread and use of nuclear weapons worldwide and to many other areas impacting national security and global stability. The SWEIS will also analyze environmental impacts of legacy waste remediation conducted by DOE's Office of Environmental Management (DOE-EM). The purpose of this Notice is to invite public participation in the process and to encourage public involvement on the scope of analysis (e.g., range of alternatives, impacts, and actions) and alternatives that should be considered in the SWEIS. Following completion of the SWEIS, NNSA will decide which reasonable alternatives to implement and will announce its decisions through a Record of Decision (ROD). Absent any new decisions associated with this SWEIS process, NNSA would continue to implement decisions announced in previous RODs.

DATES: NNSA invites other federal agencies, state and local governments, federally recognized Indian tribes and the public to comment on the scope of the LANL SWEIS. The public scoping period begins with the publication of this Notice in the Federal Register and continues until October 3, 2022 (the Comment Period). NNSA will accept public participation in written and oral form, and comments concerning the scope of the SWEIS will be given equal weight regardless of method of delivery. For receiving oral comments, NNSA will host two virtual public scoping meetings. The decision to hold only virtual meetings is based on the continuing high level of community spread of COVID-19 in the areas where in-person meetings would be held, as measured and reported by the U.S. Centers for Disease Control and Prevention. Meeting details will be provided in a future notice posted on the following website: www.energy.gov/nnsa/nnsa-nepa-reading-room. NNSA will hold the scoping meetings no earlier than 15 days from the posting of the notice. Details of the public meetings will also be announced in local media outlets.

ADDRESSES: Written comments will be considered if received or postmarked by the end of the Comment Period. Comments received or postmarked after the Comment Period will be considered to the extent practicable. Written comments on the scope of the SWEIS or requests for information related to the SWEIS should be sent via postal mail to LANL SWEIS Comments, 3747 W Jemez Road, Los Alamos, New Mexico 87544 or by email to: LANLSWEIS@nnsa.doe.gov. Before including your address, phone number, email address, or other personally identifiable information in your comment, please be advised that your entire comment—including your personally identifiable information—might be made publicly available. If you wish for NNSA to withhold your name and/or other personally identifiable information, please state this prominently at the beginning of your comment. You may submit comments anonymously.

FOR FURTHER INFORMATION CONTACT: For further information about this Notice, please contact Kristen Dors, NEPA Compliance Officer, U.S. Department of Energy, National Nuclear Security Administration, Los Alamos Field Office, 3747 W Jemez Road, Los Alamos, New Mexico 87544; phone: (505) 667-5491; or via email at LANLSWEIS@nnsa.doe.gov. This Notice and related NEPA documents are available at: www.energy.gov/nnsa/nnsa-nepa-reading-room.

SUPPLEMENTARY INFORMATION:

Background

The Laboratory has been operating for nearly 80 years in Northern New Mexico. Today, the Laboratory is a national security laboratory, as defined by 50 United States Code (U.S.C.) 2471, and operated as an NNSA facility by a Management and Operating (M&O) contractor with an annual budget of approximately $4.6 billion and a workforce of approximately 14,000 people. The Laboratory exists to support NNSA missions, which are established by law, including: (1) to enhance U.S. national security through the military application of nuclear energy; (2) to maintain and enhance the safety, reliability, and performance of the U.S. nuclear weapons stockpile, including the ability to design, produce, and test, in order to meet national security requirements; (3) to promote international nuclear safety and nonproliferation; (4) to reduce global danger from weapons of mass destruction; (5) to support U.S. leadership in science and technology. NNSA missions are carried out in a manner that is consistent with the principles of: (1) Protecting the environment; (2) Safeguarding the safety and health of the public and of the workforce; (3) Ensuring the Security of the nuclear weapons, nuclear material, and classified information. As a Federally Funded Research and Development Center, the Laboratory is primarily sponsored by NNSA but does work for other federal agencies and partners with a wide variety of entities. LANL also has an important legacy waste remediation mission, which is overseen by DOE-EM. The potential impacts of these ongoing DOE-EM remediation activities will be included in the LANL SWEIS. This Notice signifies the fourth site-wide EIS undertaken for the Laboratory since 1976.

Purpose and Need for Agency Action

The purpose of the continued operation of the Laboratory has not changed and continues to be to provide support for NNSA's core missions as directed by the Congress and the President. NNSA's need to continue operating the Laboratory is focused on its obligation to ensure a safe and reliable nuclear stockpile. For the foreseeable future, NNSA, on behalf of the U.S. Government, will need to continue its nuclear weapons research and development, surveillance, computational analysis, components manufacturing, and nonnuclear aboveground experimentation. Currently, many of these activities are conducted solely at the Laboratory. A curtailment or cessation of these activities would run counter to national security policy as established by the Congress and the President. The Laboratory plays vital roles in NNSA missions including: enhancing U.S. national security through the military application of nuclear energy; maintaining and enhancing the safety, reliability, and effectiveness of the U.S. nuclear weapons stockpile, including the ability to design, produce, and test, in order to meet national security requirements; promoting international nuclear safety and nonproliferation; reducing global danger from weapons of mass destruction; supporting U.S. leadership in science and technology.

The 2016 Compliance Order on Consent between the State of New Mexico Environmental Department and the Department of Energy (the Consent Order) is the principal regulatory driver for legacy waste cleanup at LANL. The Consent Order contains requirements for investigation and cleanup as well as enforceable deadlines for achieving desired remediation milestones, which may include the submission of documents such as investigation work plans, investigation reports, periodic monitoring reports, and corrective measures evaluation reports.

Requirements To Fulfill DOE NEPA Compliance

The SWEIS will be prepared pursuant to NEPA (Title 42 U.S.C. 4321 et seq.), the Council on Environmental Quality's NEPA regulations (40 CFR parts 1500-1508) and the DOE NEPA implementing procedures (10 CFR part 1021). The DOE regulations (10 CFR 1021.330) require preparation of site-wide documents for certain large, multiple-facility sites, such as the Laboratory. The purpose of a SWEIS is to provide the public with an analysis of the potential environmental impacts from ongoing and reasonably foreseeable new and modified operations and facilities, and reasonable alternatives, to provide a basis for site-wide decisionmaking and to improve and coordinate agency plans, functions, programs, and resource utilization. The SWEIS provides an overall NEPA baseline, so that the environmental effects of proposed future changes in programs and activities can be compared to the baseline. A SWEIS allows NNSA to “tier” its later project-specific NEPA analyses at the same site. Tiering is a method used in NEPA analysis that allows agencies to eliminate repetitive discussion of the same issues and to focus on the specific issues in future proposed actions.

The NEPA process enables federal, state and local governments, federally recognized Indian tribes, and public participation in the environmental review process.

Preliminary Alternatives

The scoping process is an opportunity for the public to assist NNSA in determining the alternatives, issues, or analyses that should be included in the SWEIS. NNSA welcomes specific comments or suggestions on the content of these alternatives or on other alternatives that could be considered. A preliminary set of alternatives and issues for evaluation in the SWEIS is identified below; during the development of the SWEIS, NNSA could include other reasonable alternatives.

No-Action Alternative: Continue Current Operations

The No-Action Alternative would continue current operations throughout the Laboratory that support currently assigned missions. NEPA regulations require analysis of the No-Action Alternative to provide a benchmark for comparison with environmental effects of action alternatives. This alternative includes the programs and activities for which NEPA reviews and decisions have been made, such as DOE-EM legacy waste cleanup activities pursuant to the 2016 Consent Order. The No-Action Alternative includes, for currently assigned mission scope: (1) construction of minor replacement facilities; (2) upgrades to existing facilities and infrastructure; (3) decontamination, decommissioning, and demolition (DD&D) projects.

Modernizing Current Operations Alternative

The programmatic context for the Modernizing Current Operations Alternative is the continued support of existing programs and activities by modernizing facilities as necessary. This alternative includes the scope of the No-Action Alternative, as described above, plus additional modernization activities. This alternative includes: (1) construction of replacement facilities; (2) more significant upgrades to existing facilities and infrastructure; (3) more significant DD&D projects. Under this alternative, NNSA would replace facilities that are approaching their end of life, upgrade facilities to extend their lifetimes, and improve work environments to enable NNSA to meet operational requirements. The proposed DD&D of older facilities would eliminate excess facilities and reduce costs and risk. This alternative would not expand capabilities and operations at LANL beyond those that currently exist.

Expanded Operations Alternative

The Expanded Operations Alternative includes the modernization actions included in the Modernizing Current Operations Alternative, as described above, plus actions that would expand operations and missions to respond to future national security challenges and meet increasing requirements. This alternative includes: (1) construction and operation of new facilities, and (2) significant upgrades to existing facilities that result in changing the nature and capabilities of these facilities. This alternative would expand capabilities at LANL beyond those that currently exist. For example, under an Expanded Operations Alternative NNSA may consider the construction and operation of an additional supercomputing complex that would enable NNSA to expand the capabilities of that program. In the Draft SWEIS, NNSA will identify and analyze other actions that could expand the capabilities at LANL.

The Draft SWEIS will identify the specific actions associated with the alternatives and will assess the potential impacts of implementing the alternatives. The Draft SWEIS will also identify and evaluate any actions related to environmental management and land transfer that are reasonable for each of the alternatives.

Other Potential Reasonable Alternatives

The 1999 and 2008 LANL SWEISs included a Reduced Operations Alternative. Those SWEISs were prepared at times when DOE/NNSA deemed a reduction in Laboratory operations to be a reasonable alternative. For the foreseeable future, NNSA does not consider reducing operational or environmental remediation missions at LANL as reasonable. However, the timeframe for the SWEIS analysis is approximately 15 years into the future, and NNSA recognizes that requirements, needs, opportunities, and vision may change over such a long planning horizon. Consequently, NNSA has not made a final decision on whether to include a Reduced Operations Alternative in this SWEIS. NNSA welcomes input on this and any other alternative the public thinks are reasonable and should be analyzed in the SWEIS.

Alternatives that NNSA will not consider reasonable are (1) the complete closure and DD&D of the Laboratory and (2) transfer of current missions/operations from the Laboratory to other sites, as those actions would be inconsistent with the LANL mission defined by NNSA. Such possibilities were considered as recently as 2008 when NNSA prepared the Complex Transformation Supplemental Programmatic EIS (CT SPEIS). In that document, NNSA concluded that “as a result of the continuing challenges of certification [of nuclear weapons] without underground nuclear testing, the need for robust peer review, benefits of intellectual diversity from competing physics design laboratories, and uncertainty over the details [of] future stockpiles, NNSA does not consider it reasonable to evaluate laboratory consolidation [or elimination] at this time.” That conclusion has not changed today. In addition, as one of only three NNSA national security laboratories, LANL contributes significantly to the core intellectual and technical competencies of the U.S. related to nuclear weapons. These competencies embody more than 75 years of weapons knowledge and experience. The Laboratory performs the basic research, design, system engineering, development testing, reliability and assessment, surveillance, and certification of nuclear weapons safety, reliability, and performance. From a broader national security perspective, the core intellectual and technical competencies of the Laboratory help provide the technical basis for the pursuit of U.S. arms control and nuclear nonproliferation objectives.

The CT SPEIS also considered and evaluated the transfer of missions and operations to and from the Laboratory, and NNSA has implemented, as appropriate, decisions that followed preparation of that document. NNSA has not identified any new proposals for current missions/operations that are reasonable for transfer to/from the Laboratory.

Preliminary Environmental Analysis

The following issues have been identified for analysis in the SWEIS. The list is tentative and intended to facilitate public comment on the scope of the SWEIS. It is not intended to be all inclusive, nor does it imply any predetermination of potential impacts. The NNSA specifically invites suggestions for the addition or deletion of items on this list.

• Potential effects on the public and workers from exposures to radiological and hazardous materials during normal operations, construction, reasonably foreseeable accidents (including from natural phenomena hazards), and intentional destructive acts

• Impacts on surface and groundwater, floodplains and wetlands, and on water use and quality

• Impacts on air quality from potential releases of radiological and nonradiological pollutants and greenhouse gases

• Impacts to plants and animals and their habitats, including species that are federally or state-listed as threatened or endangered, or of special concern

• Impacts on physiography, topography, geology, and soil characteristics

• Impacts to cultural resources, such as those that are historic, prehistoric, archaeological, scientific, or paleontological

• Socioeconomic impacts to affected communities

• Environmental justice impacts, particularly whether or not activities at the Laboratory have a disproportionately high and adverse effect on minority and/or low-income populations

• Potential impacts on land use and applicable plans and policies

• Impacts from traffic and transportation of radiological and hazardous materials and waste on and off the Laboratory campus

• Pollution prevention and materials, and waste management practices and activities

• Impacts on visual aesthetics and noise levels of Laboratory facilities on the surrounding communities and ambient environment

• Impacts to community services, including fire protection, police protection, schools, and solid waste disposal to landfills

• Impacts from the use of utilities, including water and electricity consumption, fuel use, sewer discharges, and resource conservation

• Impacts from site contamination and remediation

• Unavoidable adverse impacts

• Environmental compliance and inadvertent releases

• Short-term uses and long-term productivity

• Irreversible and irretrievable commitment of resources

• Cumulative effects of past, present, and reasonably foreseeable future actions

• Mitigation commitments

LANL SWEIS Process and Schedule

Fourteen years have passed since the publication of the 2008 LANL SWEIS. Because of comprehensive site planning activities that are under consideration, as well as other reasons, NNSA determined that it was appropriate to revisit the 2008 SWEIS analysis. The scoping process is intended to involve all interested agencies (federal, state, and local), public interest groups, federally recognized Indian tribes, local businesses, and members of the general public. Interested parties are invited to participate in the SWEIS process to refine the preliminary alternatives and identify environmental issues that are reasonable or pertinent for analysis. Input from the scoping process will assist NNSA in formulating the alternatives and defining the scope of the SWEIS analysis.

Following the scoping process announced in this Notice, and after consideration of comments received during scoping, NNSA will prepare a Draft SWEIS for the continued operation of the Laboratory. NNSA expects to issue the Draft SWEIS in 2023. NNSA will announce the availability of the Draft SWEIS in the Federal Register and local media outlets. NNSA will hold one or more public hearings for the Draft SWEIS. Any comments received on the Draft SWEIS will be considered and addressed in the Final SWEIS. NNSA could then issue a Record of Decision no sooner than 30 days after publication by the Environmental Protection Agency of a Notice of Availability of the Final SWEIS.

Signing Authority

This document of the Department of Energy was signed on August 15, 2022 by Jill Hruby, Under Secretary for Nuclear Security and Administrator, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 16, 2022.
Treena V. Garrett,
Federal Register Liaison Officer, U.S. Department of Energy.

[FR Doc. 2022-17901 Filed 8-18-22; 8:45 am]

BILLING CODE 6450-01-P